DEPARTMENT OF COMMERCE

International Trade Administration

Renewable Energy and Energy Efficiency Advisory Committee Meeting

AGENCY: International Trade Administration, U.S. Department of Commerce.

ACTION: Notice of an Open Meeting.

SUMMARY: The Renewable Energy and Energy Efficiency Advisory Committee (RE&EEAC) will hold a meeting to review subcommittee work identifying proposed programs or policies to focus on in developing its next set of recommendations to the Secretary of Commerce. The recommendations will generally relate to the development and administration of programs and policies to support the competitiveness of the U.S. renewable energy and energy efficiency industries, including specific challenges associated with exporting. The Committee will also discuss its workplan for the remainder of its 2011-2012 charter.

DATES: Wednesday, November 30, 2011, from 8:30 a.m. to 3:30 p.m. Eastern Standard Time (EST)

ADDRESSES: The meeting will be held at the U.S. Department of Commerce, Room 4830, 1401 Constitution Avenue NW., Washington, DC 20230.

FOR FURTHER INFORMATION CONTACT: Jen Derstine, Office of Energy and Environmental Technologies Industries (OEEI), International Trade Administration, U.S. Department of Commerce at (202) 482-3889; email: jennifer.derstine@trade.gov. This meeting is physically accessible to people with disabilities. Requests for auxiliary aids should be directed to OEEI at (202) 482-3889.

SUPPLEMENTARY INFORMATION:

Background: The Secretary of Commerce established the RE&EEAC pursuant to his discretionary authority and in accordance with the Federal Advisory Committee Act (5 U.S.C. App.) on July 14, 2010. The RE&EEAC provides the Secretary of Commerce with consensus advice from the private sector on the development and administration of programs and policies to enhance the international competitiveness of the U.S. renewable energy and energy efficiency industries.

Topics to be considered: The agenda for the November 30, 2011 RE&EEAC meeting is as follows:

Closed Session (8:30 a.m.-9:30 a.m.).

Discussion of matters determined to be exempt from the provisions relating to public meetings found in 5 U.S.C. 552b(c)(9)(B) of the Government in the Sunshine Act.

Open Session (9:30 a.m.-3:30 p.m.).

1. Report of Subcommittees.

2. Discussion of RE&EEAC Workplan through July 2012.

3. Discussion of Guiding Questions.

4. Public comment period.

The meeting room is disabled-accessible. Public seating for the open session of the meeting is limited and available on a first-come, first-served basis. Members of the public wishing to attend the meeting must notify Jen Derstine at the contact information above by 5 p.m. EST on Wednesday, November 23, 2011, in order to pre-register for clearance into the building. Please specify any request for reasonable accommodation at least five business days in advance of the meeting. Last minute requests will be accepted, but may be impossible to fill. A limited amount of time, from 3 p.m. until 3:30 p.m., will be available for pertinent brief oral comments from members of the public attending the meeting.

Any member of the public may submit pertinent written comments concerning the RE&EEAC's affairs at any time before or after the meeting. Comments may be submitted to jennifer.derstine@trade.gov or to the Renewable Energy and Energy Efficiency Advisory Committee, Office of Energy and Environmental Technologies Industries (OEEI), International Trade Administration, Room 4053; 1401 Constitution Avenue NW., Washington, DC 20230. To be considered during the meeting, comments must be received no later than 5 p.m. EST on Wednesday, November 23, 2011, to ensure transmission to the Committee prior to the meeting. Comments received after that date will be distributed to the members but may not be considered at the meeting.

The Assistant Secretary for Administration, with the concurrence of the delegate of the General Counsel, formally determined on November 2, 2011, pursuant to section 10(d) of the Federal Advisory Committee Act, as amended (5 U.S.C. App. (10)(d)), that the portion of the meeting dealing with matters the disclosure of which would be likely to frustrate significantly implementation of an agency action as described in 5 U.S.C. 552b (c)(9)(B) shall be exempt from the provisions relating to public meetings found in 5 U.S.C. App. (10)(a)(1) and 10(a)(3). The remaining portions of the meeting will be open to the public.

Copies of RE&EEAC meeting minutes will be available within 30 days of the meeting.

Dated: November 14, 2011.
Edward A. O'Malley,
Director, Office of Energy and Environmental Industries.

[FR Doc. 2011-29725 Filed 11-16-11; 8:45 am]

BILLING CODE 3510-DR-P